DEPARTMENT OF LABOR

Employee Benefits Security Administration

165th Meeting of the Advisory Council on Employee Welfare and Pension Benefit Plans; Notice of Meeting

Pursuant to the authority contained in Section 512 of the Employee Retirement Income Security Act of 1974 (ERISA), 29 U.S.C. 1142, the 165th open meeting of the Advisory Council on Employee Welfare and Pension Benefit Plans (also known as the ERISA Advisory Council) will be held on March 1, 2013.

The meeting will take place in C5521 Room 4, U.S. Department of Labor, 200 Constitution Avenue NW., Washington, DC 20210. The purpose of the open meeting, which will run from 1:30 p.m. to approximately 4:30 p.m. Eastern Standard Time, is to welcome the new members, introduce the Council Chair and Vice Chair, receive an update from the Assistant Secretary of Labor for the Employee Benefits Security Administration, and determine the topics to be addressed by the Council in 2013.

Organizations or members of the public wishing to submit a written statement may do so by submitting 30 copies on or before February 21, 2013 to Larry Good, Executive Secretary, ERISA Advisory Council, U.S. Department of Labor, Suite N-5623, 200 Constitution Avenue NW., Washington, DC 20210. Statements also may be submitted as email attachments in text or pdf format transmitted to good.larry@dol.gov. It is requested that statements not be included in the body of the email. Statements deemed relevant by the Advisory Council and received on or before February 21, 2013 will be included in the record of the meeting and available in the EBSA Public Disclosure room. Do not include any personally identifiable information (such as name, address, or other contact information) or confidential business information that you do not want publicly disclosed.

Individuals or representatives of organizations wishing to address the Advisory Council should forward their requests to the Executive Secretary by email or telephone (202-693-8668). Oral presentations will be limited to ten minutes, time permitting, but an extended statement may be submitted for the record. Individuals with disabilities who need special accommodations should contact the Executive Secretary by February 21, 2013.

Signed at Washington, DC this 17th day of January 2013.
Phyllis C. Borzi,
Assistant Secretary, Employee Benefits Security Administration.

[FR Doc. 2013-01393 Filed 1-23-13; 8:45 am]

BILLING CODE 4510-29-P